DEPARTMENT OF HOMELAND SECURITY

Coast Guard

33 CFR Part 165

[CGD05-07-038]

RIN 1625-AA00

Security Zone: Queen of England Visit, Jamestown Island, VA.; Correction

AGENCY: Coast Guard, DHS.

ACTION: Temporary final rule; correction.

SUMMARY: The U. S. Coast Guard published a rule in the Federal Register of April 23, 2007, a document concerning the Queen of England's visit to Jamestown Island, VA. Inadvertently § 165.T07-038 was numbered incorrectly. This document corrects that number.

DATES: This rule is effective from 8 a.m. on May 3, 2007, until 8 p.m. on May 4, 2007.

FOR FURTHER INFORMATION CONTACT: LCDR Thomas Tarrants, Enforcement Branch Chief, U.S. Coast Guard Sector Hampton Roads, Virginia at (757) 483-8571.

SUPPLEMENTARY INFORMATION: The U.S. Coast Guard published a document in the Federal Register of April 23, 2007, (72 FR 20051) inadvertently numbering the section § 165.T07-038. This correction removes the number published on April 23, 2007.

In rule FR Doc. CGD05-07-038 published on April 23, 2007, (72 FR 20051) make the following correction. On page 20052, in two places, remove the number § 165.T07-038 and put in place of that number § 165.T05-038.

Dated: April 25, 2007.
Steve Venckus,
Chief, Office of Regulations and Administrative Law.

[FR Doc. E7-8315 Filed 4-30-07; 8:45 am]

BILLING CODE 4910-15-P